DEPARTMENT OF VETERANS AFFAIRS

[OMB Control No. 2900-0793]

Agency Information Collection Activity: VA Health Professional Scholarship Programs (HPSP, VIOMPSP, VHVMAESP and EACFMAF)

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before February 10, 2023.

ADDRESSES: Submit written comments on the collection of information through Federal Docket Management System (FDMS) at www.Regulations.gov or to Janel Keyes, Office of Regulations, Appeals, and Policy (10BRAP), Department of Veterans Affairs, 810 Vermont Avenue NW, Washington, DC 20420 or email to Janel.Keyes@va.gov. Please refer to “OMB Control No. 2900-0793” in any correspondence. During the comment period, comments may be viewed online through FDMS.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0793” in any correspondence.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: VA Health Professional Scholarship Programs (HPSP, VIOMPSP, VHVMAESP and EACFMAF)—VA Forms 10-0491, 10-0491a, 10-0491c-n.

OMB Control Number: 2900-0793.

Type of Review: Revision of a currently approved collection.

Abstract: This is a currently approved collection of forms used by VHA to administer health care professional scholarship programs. The Department of Veterans Affairs (VA) Health Professional Scholarship Program (HPSP) and the VA Visual Impairment and Orientation and Mobility Professionals Scholarship Program (VIOMPSP) were authorized under Public Law 111-163 on May 5, 2010 and extended through December 31, 2033, by section 301 of Public Law 115-182, VA Mission Act of 2018. On June 6, 2018, section 304 of Public Law 115-182, the John S. McCain III, Daniel K. Akaka, and Samuel R. Johnson VA Maintaining Internal Systems and Strengthening Integrated Outside Networks Act of 2018, or the VA MISSION Act of 2018, established the Veterans Healing Veterans Medical Access and Education Scholarship Program (VHVMAESP). The VA Educational Assistance for Certain Former Members of the Armed Forces (EACFMAF) Program was authorized under section 246 of Public Law 115-141, Consolidated Appropriations Act of 2018. Legal authority for this data collection is also found under 38 U.S.C., part I, chapter 5, 527, which authorizes the collection of data that will allow measurement and evaluation of VA programs, the goal of which is improved health care for Veterans, and under 38 CFR 17.600-17.612 (HPSP), § 17.625-17.636 (VIOMPSP), § 17.613-17.618 (VHVMAESP), and § 17.535-17.539 (EACFMAF).

These programs help address health care workforce needs and allow VA to provide services to the public by awarding scholarships to non-VA employees who will be required to become VA employees in the professions for which they were educated under these programs. This information collection is necessary for VA to determine an applicant's eligibility to receive a scholarship award and compliance with program requirements.

1. Academic Verification, VA Form 10-0491.

2. Addendum to Application, VA Form 10-0491a.

3. Annual VA Employment Deferment Verification, VA Form 10-0491c.

4. Education Program Completion Notice—Service Obligation Placement, VA Form 10-0491d.

5. Evaluation Recommendation Form, VA Form 10-0491e.

6. HPSP and EACFMAF Agreement, VA Form 10-0491f.

7. Application, VA Form 10-0491g.

8. Notice of Approaching Graduation, VA Form 10-0491h.

9. Notice of Change and/or Annual Academic Status Report, VA Form 10-0491i.

10. Request for Deferment for Advanced Education, VA Form 10-0491j.

11. VA Scholarship Offer Response, VA Form 10-0491k.

12. VIOMPSP Agreement, VA Form 10-0491l.

13. Mobility Agreement, VA Form 10-0491m.

14. VHVMAESP Agreement, VA Form 10-0491n.

Each program uses the forms in this collection for applications, verifications, recommendations, etc. However, there are distinct Agreement forms for specific programs, which will be used by scholarship awardees for the appropriate program.

Total Annual Number of Responses = 1,950.

Total Annual Time Burden = 7,619 hours.

HPSP

Affected Public: Individuals or households.

Estimated Annual Burden: 6,687 hours.

Estimated Average Burden per Respondent: 3.93 hours.

Frequency of Response: Once annually.

Estimated Number of Respondents: 1,700.

VIOMPSP

Affected Public: Individuals or households.

Estimated Annual Burden: 304 hours.

Estimated Average Burden per Respondent: 3.04 hours.

Frequency of Response: Once annually.

Estimated Number of Respondents: 100.

VHVMAESP

Affected Public: Individuals or households.

Estimated Annual Burden: 216 hours.

Estimated Average Burden per Respondent: 4.32 hours.

Frequency of Response: Once annually.

Estimated Number of Respondents: 50.

EACFMAF

Affected Public: Individuals or households.

Estimated Annual Burden: 412 hours.

Estimated Average Burden per Respondent: 4.12 hours.

Frequency of Response: Once annually.

Estimated Number of Respondents: 100.

By direction of the Secretary.
Maribel Aponte,
VA PRA Clearance Officer, Office of Enterprise and Integration/Data Governance Analytics, Department of Veterans Affairs.

[FR Doc. 2022-26932 Filed 12-9-22; 8:45 am]

BILLING CODE 8320-01-P